DEPARTMENT OF COMMERCE

International Trade Administration

[A-570-979]

Crystalline Silicon Photovoltaic Cells, Whether or Not Assembled Into Modules, From the People's Republic of China: Final Results of Antidumping Duty Administrative Review and Final Determination of No Shipments; 2022-2023

AGENCY: Enforcement and Compliance, International Trade Administration, Department of Commerce.

SUMMARY: The U.S. Department of Commerce (Commerce) determines that the companies to which it granted a separate rate sold subject merchandise at prices below normal value (NV) during the period of review (POR), December 1, 2022, through November 30, 2023. Commerce also determines that certain companies did not ship subject merchandise during the POR. Additionally, Commerce is rescinding this review with respect to one company and denying a separate rate to one company.

DATES: Applicable December 23, 2025.

FOR FURTHER INFORMATION CONTACT: Benjamin Blythe, AD/CVD Operations, Office IV, Enforcement and Compliance, International Trade Administration, U.S. Department of Commerce, 1401 Constitution Avenue NW, Washington, DC 20230; telephone: (202) 482-3457.

SUPPLEMENTARY INFORMATION:

Background

On April 11, 2025, Commerce published the Preliminary Results in the Federal Register and invited interested parties to comment on those results.¹ On July 31, 2025, Commerce extended the deadline for issuing the final results of this review by 60 days until October 8, 2025.² Due to the lapse in appropriations and Federal Government shutdown, on November 14, 2025, Commerce tolled all deadlines in administrative proceedings by 47 days.³ Additionally, due to a backlog of documents that were electronically filed via Enforcement and Compliance's Antidumping and Countervailing Duty Centralized Electronic Service System (ACCESS) during the Federal Government shutdown, on November 24, 2025, Commerce tolled all deadlines in administrative proceedings by an additional 21 days.⁴ Accordingly, the deadline for these final results is now December 15, 2025. For details regarding the events that occurred subsequent to publication of the Preliminary Results in the Federal Register, see the Issues and Decision Memorandum.⁵ Commerce conducted this administrative review in accordance with section 751(a) of the Tariff Act of 1930, as amended (the Act).

¹ See Crystalline Silicon Photovoltaic Cells, Whether or Not Assembled Into Modules, from the People's Republic of China: Preliminary Results and Partial Rescission of Antidumping Duty Administrative Review and Preliminary Determination of No Shipments; 2022-2023, 90 FR 15439 (April 11, 2025) (Preliminary Results), and accompanying Preliminary Decision Memorandum (PDM).

² See Memorandum, “Extension of Deadline for Final Results of Antidumping Duty Administrative Review,” dated July 31, 2025.

³ See Memorandum, “Deadlines Affected by the Shutdown of the Federal Government,” dated November 14, 2025.

⁴ See Memorandum, “Tolling of all Case Deadlines,” dated November 24, 2025.

⁵ See Memorandum, “Issues and Decision Memorandum for the Final Results of the Administrative Review of the Antidumping Duty Order on Crystalline Silicon Photovoltaic Cells, Whether or Not Assembled into Modules, from the People's Republic of China; 2022-2023,” dated concurrently with, and hereby adopted by, this notice (Issues and Decision Memorandum).

Scope of the Order ⁶

⁶ See Crystalline Silicon Photovoltaic Cells, Whether or Not Assembled Into Modules, from the People's Republic of China: Amended Final Determination of Sales at Less Than Fair Value, and Antidumping Duty Order, 77 FR 73018 (December 7, 2012) (Order).

The products covered by the Order are crystalline silicon photovoltaic cells, and modules, laminates, and panels, consisting of crystalline silicon photovoltaic cells, whether or not partially or fully assembled into other products, including, but not limited to, modules, laminates, panels and building integrated materials. For a complete description of the scope of the Order, see the Issues and Decision Memorandum.

Analysis of Comments Received

All issues raised in the case and rebuttal briefs that parties submitted in this review are addressed in the Issues and Decision Memorandum. A list of the issues that parties raised, and to which we responded in the Issues and Decision Memorandum, is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, Commerce determined that Jinko Solar,⁷ Longi Solar Technology Co. Ltd. (Longi Solar), and Zhejiang Aiko Solar Energy Technology Co., Ltd. (Zhejiang Aiko) did not ship subject merchandise to the United States during the POR. No parties filed timely arguments disputing Commerce's no shipment determination.⁸ In these final results of review, we continue to find that Jinko Solar, Longi Solar, and Zhejiang Aiko did not ship subject merchandise to the United States during the POR.

⁷ Jinko Solar refers to the following companies which Commerce has previously treated as a single entity: Jinko Solar Import and Export Co., Ltd.; Jinko Solar Co., Ltd.; JinkoSolar Technology (Haining) Co., Ltd.; Yuhuan Jinko Solar Co., Ltd.; Zhejiang Jinko Solar Co., Ltd.; Jiangsu Jinko Tiansheng Solar Co., Ltd.; JinkoSolar (Chuzhou) Co., Ltd.; JinkoSolar (Yiwu) Co., Ltd.; and JinkoSolar (Shangrao) Co., Ltd.

⁸ On August 27, 2025, Jinko Solar filed untimely arguments regarding its no shipments claim which Commerce rejected. See Commerce's Letter, “Rejection of Letters,” dated November 24, 2025; see also Memorandum, “Rejection of Letters,” dated November 24, 2025.

Rescission of Administrative Review, in Part

In the Preliminary Results, Commerce determined that there were no entries of Red Sun Energy Long An Company Limited's (Red Sun) solar cells/modules into the United States during the POR that were suspended and subject to antidumping duties, and thus, consistent with its practice, Commerce stated that it intended to rescind this review with respect to Red Sun. No parties commented on this preliminary determination. In the absence of any suspended entries of subject merchandise from Red Sun during the POR, Commerce is rescinding this review with respect to Red Sun.

Separate Rates

No parties commented on Commerce's preliminary determination to grant separate rates to certain companies ⁹ and to not grant a separate rate to Anji DaSol Solar Energy Science & Technology Co., Ltd. We have made no changes to Commerce's preliminary separate rates determination in these final results of review.

⁹ The companies to which Commerce granted a separate rate are: (1) Shenzhen Sungold Solar Co., Ltd. (Sungold); (2) BYD H.K. Co., Ltd.; (3) BYD (Shangluo) Industrial Co., Ltd.; (4) Maodi Solar Technology (Dongguan) Co., Ltd.; (5) Trina Solar Energy Development Company Limited; and (6) Trina Solar Science & Technology (Thailand) Ltd.

Dumping Margins for Separate Rate Companies

The statute and Commerce's regulations do not address what dumping margin to apply to respondents that are not selected for individual examination in an administrative review pursuant to section 777A(c)(2) of the Act. Generally, Commerce looks to section 735(c)(5) of the Act, which provides instructions for calculating the all-others rate in an investigation, for guidance when calculating the dumping margin for respondents that are not individually examined in an administrative review. Under section 735(c)(5)(A) of the Act, the all-others rate is normally “equal to the weighted average of the estimated weighted average dumping margins established for exporters and producers individually investigated, excluding any zero and de minimis dumping margins, and any dumping margins determined entirely {on the basis of facts available}.” Because we calculated a dumping margin that is not zero, de minimis, or based entirely on facts available for Sungold, the sole participating mandatory respondent, we assigned the separate rate recipients that we did not individually examine a dumping margin equal to Sungold's dumping margin consistent with Commerce's practice and section 735(c)(5)(A) of the Act. For additional information, see the Issues and Decision Memorandum.

China-Wide Entity

Commerce's policy regarding conditional review of the China-wide entity applies to this administrative review.¹⁰ Under this policy, the China-wide entity will not be under review unless a party specifically requests, or Commerce self-initiates, a review of the entity. Because no party requested that Commerce review the China-wide entity in this segment of the proceeding, the China-wide entity is not under review and its dumping margin (i.e., 238.95 percent ¹¹) is not subject to change. Because there were no entries of subject merchandise from the companies listed in Appendix II of this notice during the POR, none of which had a separate rate during the POR, these companies remain in the China-wide entity.¹² In addition, because Commerce did not grant a separate rate to Anji DaSol Solar Energy Science & Technology Co., Ltd., this company is part of the China-wide entity.

¹⁰ See Antidumping Proceedings: Announcement of Change in Department Practice for Respondent Selection in Antidumping Duty Proceedings and Conditional Review of the Nonmarket Economy Entity in NME Antidumping Duty Proceedings, 78 FR 65963 (November 4, 2013).

¹¹ The China-wide entity rate was last changed in the first administrative review of this proceeding and has been the applicable rate for the entity in each subsequent review, including the most recently completed review. See Crystalline Silicon Photovoltaic Cells, Whether or Not Assembled Into Modules, from the People's Republic of China: Final Results of Antidumping Duty Administrative Review and Final Determination of No Shipments; 2012- 2013, 80 FR 40998, 41002 (July 14, 2015); see also Crystalline Silicon Photovoltaic Cells, Whether or Not Assembled Into Modules, from the People's Republic of China: Final Results and Final Partial Rescission of Antidumping Duty Administrative Review; and Final Determination of No Shipments; 2021-2022, 89 FR 55562 (July 5, 2024).

¹² See Preliminary Results PDM.

Final Results of Review

Commerce determines that the following estimated weighted-average dumping margins exist for the period December 1, 2022, through November 30, 2023:

Exporter | Weighted- average dumping margin (percent)
Shenzhen Sungold Solar Co., Ltd | 5.25
Separate Rate Companies:
BYD H.K. Co., Ltd | 5.25
BYD (Shangluo) Industrial Co., Ltd | 5.25
Maodi Solar Technology (Dongguan) Co., Ltd | 5.25
Trina Solar Energy Development Company Limited | 5.25
Trina Solar Science & Technology (Thailand) Ltd | 5.25

Disclosure

Pursuant to 19 CFR 351.224(b), Commerce intends to disclose the calculations that it performed for these final results of review to the parties to this proceeding within five days of any public announcement or, if there is no public announcement, within five days of the date of publication of this notice in the Federal Register in accordance with 19 CFR 351.224(b).

Assessment Rates

Pursuant to section 751(a)(2)(C) of the Act and 19 CFR 351.212(b)(1), Commerce has determined, and U.S. Customs and Border Protection (CBP) shall assess, antidumping duties on all appropriate entries of subject merchandise covered by the final results of this review.¹³ Commerce intends to issue assessment instructions to CBP no earlier than 35 days after the publication date of these final results in the Federal Register. If a timely summons is filed at the U.S. Court of International Trade, the assessment instructions will direct CBP not to liquidate relevant entries until the time for parties to file a request for a statutory injunction has expired (i.e., within 90 days of publication).

¹³ See Antidumping Proceedings: Calculation of the Weighted Average Dumping Margin and Assessment Rate in Certain Antidumping Proceedings: Final Modification, 77 FR 8101 (February 14, 2012) (Final Modification).

In accordance with 19 CFR 351.212(b)(1), we calculated importer-specific assessment rates for Sungold by dividing the total amount of dumping calculated for all reviewed U.S. sales of subject merchandise entered by an importer by the total entered value of those sales.¹⁴ Where an importer-specific ad valorem assessment rate is not zero or de minimis, Commerce will instruct CBP to collect the appropriate duties at the time of liquidation. Where an importer -specific ad valorem assessment rate is zero or de minimis, Commerce will instruct CBP to liquidate the appropriate entries without regard to antidumping duties. Pursuant to a refinement to Commerce's assessment practice, where Sungold did not report a sale of subject merchandise that was entered into the United States during the POR under its company-specific CBP case number, Commerce will instruct CBP to liquidate any entries of such merchandise at the weighted-average dumping margin for the China-wide entity (i.e., 238.95 percent) if there is no rate for the intermediate company(ies) involved in the transaction.¹⁵

¹⁴ We applied the assessment rate calculation method adopted in the Final Modification. See Final Modification, 77 FR at 8101.

¹⁵ For a full discussion of this practice, see Antidumping and Countervailing Duty Proceedings: Assessment of Antidumping Duties, 68 FR 23954 (May 6, 2003).

Commerce intends to instruct CBP to assess antidumping duties on all POR entries of subject merchandise exported by the separate rate companies listed in the above table at a rate equal to the estimated dumping margin determined for Sungold.¹⁶

¹⁶ See Non-Market Economy Antidumping Proceedings: Assessment of Antidumping Duties, 76 FR 65694, 65694-95 (October 24, 2011).

Additionally, Commerce intends to instruct CBP to assess antidumping duties on all subject merchandise entered during the POR under the company-specific CBP case number of Jinko Solar, Longi Solar, or Zhejiang Aiko at the China-wide rate.

Anji DaSol Solar Energy Science & Technology Co., Ltd., and the companies listed in Appendix II of this notice are not eligible for a separate rate and thus are part of the China-wide entity. Commerce intends to instruct CBP to assess antidumping duties on all POR entries of subject merchandise exported by Anji DaSol Solar Energy Science & Technology Co., Ltd., at a rate equal to 238.95 percent (i.e., the China-wide entity rate). Although CBP data on the record does not show any entries of subject merchandise during the POR from the companies listed in Appendix II of this notice, if there are such entries they will be assessed antidumping duties at the China-wide entity rate of 238.95 percent.

Cash Deposit Requirements

The following cash deposit requirements will be in effect for all shipments of subject merchandise entered, or withdrawn from warehouse, for consumption on, or after, the date of publication of this notice in the Federal Register, as provided for by section 751(a)(2)(C) of the Act: (1) for the companies listed in the rate table in the “Final Results of Review” section of this notice above, the cash deposit rate will be equal to the weighted-average dumping margin listed for the company in the table; (2) for previously investigated or reviewed Chinese and non-Chinese companies that are not listed in the rate table above that have separate rates, the cash deposit rate will continue to be the company's existing cash deposit rate; (3) for all China exporters of subject merchandise that do not have a separate rate, the cash deposit rate will be equal to the weighted-average dumping margin assigned to the China-wide entity, which is 238.95 percent, and (4) for all non-China exporters of subject merchandise that do not have a separate rate, the cash deposit rate will be equal to the weighted-average dumping margin applicable to the China exporter(s) that supplied that non-China exporter. These cash deposit requirements, when imposed, shall remain in effect until further notice.

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties, and/or an increase in the amount of antidumping duties by the amount of the countervailing duties.

Administrative Protective Order (APO)

This notice also serves as a final reminder to parties subject to an APO of their responsibility to return or destroy proprietary information disclosed under an APO in accordance with 19 CFR 351.305(a)(3). Timely written notification of the return or destruction of APO materials or conversion to judicial protective order is hereby requested. Failure to comply with the regulations and terms of an APO is a violation subject to sanction.

Notification to Interested Parties

Commerce is issuing and publishing the final results of this administrative review in accordance with sections 751(a)(1) and 777(i)(1) of the Act, and 19 CFR 351.221(b)(5).

Dated: December 15, 2025.
Scot Fullerton,
Acting Deputy Assistant Secretary for Antidumping and Countervailing Duty Operations Enforcement & Compliance

Appendix I

List of Topics Discussed in the Issues and Decision Memorandum

I. Summary

II. Background

III. Scope of the Order

IV. Changes Since the Preliminary Results

V. Discussion of the Issues

Comment 1: Whether Commerce Correctly Applied Adverse Facts Available (AFA) to Sungold

Comment 2: Whether Commerce Should Revise the Separate Rate

Comment 3: Whether Corrective Instructions Should Be Issued to U.S. Customs and Border Protection (CBP)

Comment 4: Whether Liquidation Instructions Should Be Issued Before Pending Litigation is Resolved

VI. Recommendation

Appendix II

Companies That Remain in the China-Wide Entity ¹⁷

¹⁷ This list of companies in the China-Wide Entity is different from the Preliminary Results at Appendix III. For the Final Results, we have removed CSI Solar Co., Ltd. (f.k.a. CSI Solar Power (China) Inc.) and CSI Solar Manufacturing (Fu Ning) Co., Ltd. (f.k.a. CSI-GCL Solar Manufacturing (YanCheng) Co., Ltd.) from the China-Wide Entity list given that Commerce rescinded this review for these companies in the Preliminary Results at Appendix II. See Preliminary Results, 90 FR at 15443.

1. Boviet Solar Technology Co., Ltd.

2. Canadian Solar Manufacturing, Inc.

3. Changzhou Trina PV Ribbon Materials Co., Ltd.

4. Chint Energy (Haining) Co., Ltd.

5. CSI Modules (DaFeng) Co., Ltd.

6. CSI Solar Power Group Co., Ltd. (f.k.a. CSI Solar Power (China) Inc.)

7. De-Tech Trading Limited HK

8. Hengdian Group DMEGC Magnetics Co. Ltd.

9. Hongkong Hello Tech Energy Co., Ltd.

10. Jiawei Solarchina (Shenzhen) Co., Ltd.

11. Jiawei Solarchina Co., Ltd.

12. Jinko Solar (Malaysia) Sdn. Bhd.

13. Jinko Solar International Limited

14. Jinko Solar Technology Sdn. Bhd.

15. Jinkosolar Middle East DMCC

16. Lightway Green New Energy Co., Ltd.

17. Longi (HK) Trading Ltd.

18. Luoyang Suntech Power Co., Ltd.

19. New East Solar Energy Cambodia Co., Ltd.

20. Ningbo ETDZ Holdings, Ltd.

21. Ningbo Qixin Solar Electrical Appliance Co., Ltd.

22. Renesola Jiangsu Ltd.

23. ReneSola Zhejiang Ltd.

24. Risen Solar Technology Sdn. Bhd

25. Shanghai Nimble Co., Ltd.

26. Sumec Hardware & Tools Co., Ltd.

27. Suntech Power Co., Ltd.

28. Taizhou BD Trade Co., Ltd.

29. tenKsolar (Shanghai) Co., Ltd.

30. Trina Solar Energy Development PTE Ltd.

31. Vina Cell Technology Company Limited

32. Vina Solar Technology Company Limited

33. Wuxi Suntech Power Co., Ltd.

34. Yingli Green Energy International Trading Company Limited

[FR Doc. 2025-23765 Filed 12-22-25; 8:45 am]

BILLING CODE 3510-DS-P